DEPARTMENT OF VETERANS AFFAIRS

[OMB Control No. 2900-0408]

Proposed Information Collection (Manufactured Home Loan Claim) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to determine claim payment due to holders of foreclosed VA guaranteed manufactured home unit and combination loans.

DATES: Written comments and recommendations on the proposed collection of information should be received on or before April 21, 2008.

ADDRESSES: Submit written comments on the collection of information through www.Regulations.gov or to Nancy J. Kessinger, Veterans Benefits Administration (20M35), Department of Veterans Affairs, 810 Vermont Avenue, NW., Washington, DC 20420 or e-mail to nancy.kessinger@va.gov. Please refer to “OMB Control No. 2900-0408” in any correspondence. During the comment period, comments may be viewed online through the Federal Docket Management System (FDMS) at www.Regulations.gov.

FOR FURTHER INFORMATION CONTACT: Nancy J. Kessinger at (202) 461-9769 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles:

a. Manufactured Home Loan Claim Loan Guaranty (Manufactured Home Unit Only), (Section 3720, Chapter 37, Title 38 U.S.C.), VA Form 26-8629.

b. Manufactured Home Loan Claim Under Loan Guaranty (Manufactured Home Unit and Lot or Lot Only), (Section 3712, Chapter 37, Title 38 U.S.C.), VA Form 26-8630.

OMB Control Number: 2900-0408.

Type of Review: Extension of a currently approved collection.

Abstract: Holders of foreclosed VA guaranteed manufactured home unit and guaranteed combination manufactured home complete VA Forms 26-8629 and 26-8630 as a prerequisite payment of claims. The holder record accrued interest, various expenses of liquidation and claim balance on the forms to determine the amount claimed and submit with supporting documentation to VA. VA uses the data to determine the proper claim payment due to the holder.

Affected Public: Business or other for-profit and Individuals or households.

Estimated Annual Burden:

a. Manufactured Home Loan Claim Loan Guaranty (Manufactured Home Unit Only), (Section 3720, Chapter 37, Title 38 U.S.C.), VA Form 26-8629—33 hours.

b. Manufactured Home Loan Claim Under Loan Guaranty (Manufactured Home Unit and Lot or Lot Only), (Section 3712, Chapter 37, Title 38 U.S.C.), VA Form 26-8630—3 hours.

Estimated Average Burden per Respondent:

a. Manufactured Home Loan Claim Loan Guaranty (Manufactured Home Unit Only), (Section 3720, Chapter 37, Title 38 U.S.C.), VA Form 26-8629—20 minutes.

b. Manufactured Home Loan Claim Under Loan Guaranty (Manufactured Home Unit and Lot or Lot Only), (Section 3712, Chapter 37, Title 38 U.S.C.), VA Form 26-8630—20 minutes.

Frequency of Response: On occasion.

Estimated Number of Respondents:

a. Manufactured Home Loan Claim Loan Guaranty (Manufactured Home Unit Only), (Section 3720, Chapter 37, Title 38 U.S.C.), VA Form 26-8629—100.

b. Manufactured Home Loan Claim Under Loan Guaranty (Manufactured Home Unit and Lot or Lot Only), (Section 3712, Chapter 37, Title 38 U.S.C.), VA Form 26-8630—10.

Dated: February 12, 2008.
By direction of the Secretary.
Denise McLamb,
Program Analyst, Records Management Services.

[FR Doc. E8-3235 Filed 2-20-08; 8:45 am]

BILLING CODE 8320-01-P